DELAWARE RIVER BASIN COMMISSION

18 CFR Part 410

Schedule of Water Charges; Correction

AGENCY: Delaware River Basin Commission.

ACTION: Proposed rule; correction.

SUMMARY: This document corrects the preamble to a proposed rule published in the Federal Register of February 19, 2010, amending the schedule of water charges. This correction clarifies that the amended rates are proposed to take effect in two stages, on January 1, 2011 and January 1, 2012, respectively, and not on January 1, 2010 and January 1, 2011 as stated in the preamble.

FOR FURTHER INFORMATION, CONTACT: Pamela M. Bush, 609-477-7203.

Correction: In proposed rule FR Doc. 2010-3219, beginning on page 7411 in the issue of February 19, 2010, make the following correction in the SUPPLEMENTARY INFORMATION section. On page 7412 in the second column, in the second full paragraph, replace the text following the colon on the sixth line of the paragraph with the following:

“The consumptive use rate is proposed to be increased from $60 to $90 per million gallons effective on January 1, 2011 and from $90 to $120 per million gallons effective on January 1, 2012. The non-consumptive use rate is proposed to be increased from $.60 to $.90 per million gallons effective on January 1, 2011 and from $.90 to $1.20 per million gallons effective on January 1, 2012.”

Dated: March 5, 2010.
Pamela M. Bush,
Commission Secretary.

[FR Doc. 2010-5219 Filed 3-10-10; 8:45 am]

BILLING CODE 6360-01-P